DEPARTMENT OF DEFENSE

Office of the Secretary

[Transmittal No. 20-54]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(1) arms sales notification is published to fulfill the requirements of section 155 of Public Law 104-164 dated July 21, 1996. The following is a copy of a letter to the Speaker of the House of Representatives, Transmittal 20-54 with attached Policy Justification and Sensitivity of Technology.

Dated: November 18, 2020.
Kayyonne T. Marston,
Alternate OSD Federal Register Liaison Officer, Department of Defense.

BILLING CODE 5001-06-P

BILLING CODE 5001-06-C

Transmittal No. 20-54

Notice of Proposed Issuance of Letter of Offer Pursuant to Section 36(b)(1) of the Arms Export Control Act, as amended

(i) Prospective Purchaser: Government of Japan

(ii) Total Estimated Value:

Major Defense Equipment* | $60 million
Other | $ 3 million
Total | $63 million

(iii) Description and Quantity or Quantities of Articles or Services under Consideration for purchase:

Major Defense Equipment (MDE):

Thirty-two (32) AIM-120C-8 Advanced Medium Range Air-to-Air Missiles (AMRAAM)

One (1) AIM-120C-8 AMRAAM Guidance Section (spare)

Non-MDE: Also included are containers, support and support equipment, spare and repair parts, U.S. Government and contractor engineering, technical and logistical support services, and other related elements of logistical and program support.

(iv) Military Department: Air Force (JA-D-YAU)

(v) Prior Related Cases, if any: JA-D-YCM, JA-D-YAO, JA-D-YAK, JA-D-YAI, JA-D-YAH

(vi) Sales Commission, Fee, etc., Paid, Offered, or Agreed to be Paid: None

(vii) Sensitivity of Technology Contained in the Defense Article or Defense Services Proposed to be Sold: See Attached Annex.

(viii) Date Report Delivered to Congress: August 26, 2020

* As defined in Section 47(6) of the Arms Export Control Act.

POLICY JUSTIFICATION

Japan—AIM-120C-8 Advanced Medium Range Air-to-Air Missiles (AMRAAM)

The Government of Japan has requested to buy thirty-two (32) AIM-120C-8 AMRAAM and one (1) AIM-120C-8 AMRAAM guidance section spare. Also included are containers, support and support equipment, spare and repair parts, U.S. Government and contractor engineering, technical and logistical support services, and other related elements of logistical and program support. The estimated total cost is $63 million.

This proposed sale will support the foreign policy goals and national security objectives of the United States by improving the security of a major ally that is a force for political stability and economic progress in the Asia-Pacific region. It is vital to U.S. national interest to assist Japan in developing and maintaining a strong and effective self-defense capability.

The proposed sale of missiles will provide Japan a critical air defense capability to assist in defending the Japanese homeland and U.S. personnel stationed there. Japan already has AMRAAM in its inventory and will have no difficulty absorbing the additional missiles into its armed forces.

The proposed sale of this equipment and support will not alter the basic military balance in the region.

The prime contractor will be Raytheon Missile Systems of Tucson, AZ. There are no known offset arrangements proposed in connection with this potential sale.

Implementation of this sale will not require the assignment of U.S. Government or contractor representatives in Japan.

There will be no adverse impact on U.S. defense readiness as a result of this proposed sale.

Transmittal No. 20-54

Notice of Proposed Issuance of Letter of Offer Pursuant to Section 36(b)(1) of the Arms Export Control Act

Annex

Item No. vii

(vii) Sensitivity of Technology:

1. The proposed sale will involve the release of sensitive technology to the Government of Japan related to the AIM-120C-8 Advanced Medium Range Air-to-Air Missile (AMRAAM). The AIM-120C-8 AMRAAM is a supersonic, air launched, aerial intercept, guided missile featuring digital technology and micro-miniature solid-state electronics. Purchase will include AMRAAM Guidance Section spares. AMRAAM capabilities include look-down/shoot-down, multiple launches against multiple targets, resistance to electronic countermeasures, and interception of high- and low-flying and maneuvering targets. The AIM-120C-8 is a form, fit, function refresh of the AIM-120C-7 and is the next generation to be produced.

2. The highest level of classification of information included in this potential sale is SECRET.

3. If a technologically advanced adversary were to obtain knowledge of the specific hardware and software elements, the information could be used to develop countermeasures that might reduce weapon system effectiveness or be used in the development of a system with similar or advanced capabilities.

4. A determination has been made that Japan can provide substantially the same degree of protection for the sensitive technology being released as the U.S. Government. This sale is necessary in furthering U.S. foreign policy and national security objectives outlined in the Policy Justification.

5. All defense articles and services listed in this transmittal have been authorized for release and export to Japan.

[FR Doc. 2020-25780 Filed 11-20-20; 8:45 am]

BILLING CODE 5001-06-P